DEPARTMENT OF JUSTICE

Antitrust Division

Notice Pursuant to the National Cooperative Research and Production Act of 1993—The Open Group, L.L.C.

Notice is hereby given that, on January 16, 2024, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Abu Dhabi National Oil Company (Adnoc) P.J.S.C., Abu Dhabi, UNITED ARAB EMIRATES; AeroVironment Inc., Simi Valley, CA; Architects Zone Education Technology Ltd, Shanghai, CHINA; Beijing UINO Technology Co., Ltd; Beijing, CHINA; Belken Consulting LLC, Knoxville, TN; Bevilacqua Research Corporation, Huntsville, AL; CMC Electronics, Inc., Montreal, CANADA; Corva AI, LLC, Houston, TX; EV Offshore Ltd, Norwich, UNITED KINGDOM; ExitCertified LLC, El Dorado Hills, CA; Frontgrade Technologies LLC, Colorado Springs, CO; Go Cloud Careers, LLC, Port St Lucie, FL; Hiller Measurements, Inc., Austin, TX; Honda R & D Europe (U.K.), Ltd, Reading, UNITED KINGDOM; IB SA, Paris, FRANCE; Mana'olana International, LLC, Honolulu, HI; Mannarino Systems & Software Inc., St. Laurent, CANADA; Metrea Algorithmics, Annapolis Junction, MD; Noble Artificial Intelligence, Inc., San Francisco, CA; Numberline Security, LLC, Lexington, MA; Owl Cyber Defense Solutions, LLC, Columbia, MD; Palantir USG, Inc., Palo Alto, CA; PeopleTec, Inc., Huntsville, AL; Project Canary, PBC, Denver CO; Pumpedu s.r.o., Prague, CZECH REPUBLIC; Rabukasoft Inc., Miura-Gun, JAPAN; Santos Limited, Adelaide, AUSTRALIA; SBM Offshore Group, Monaco, MONACO; Spectra A&D Acquisition, Inc., Alpharetta, GA; StrataData Ltd, Ashford, UNITED KINGDOM; SubsurfaceAI Inc., Calgary, CANADA; Trellisware Technologies, Inc., San Diego, CA; Trillium Engineering, Hood River, OR; Two Ravens Consulting, Calgary, CANADA; and Virtual Marine Technology, Inc., Paradise, CANADA have been added as parties to this venture.

Also, Asesorías y Desarrollos Corporativos S.A., San José, COSTA RICA; B3 Insight Inc., Denver, CO; Booz Allen Hamilton, Linthicum, MD; Capricorn Energy Holdings Limited, Edinburgh, UNITED KINGDOM; CloudReplica, Houston, TX; Craytive Technologies BV, Vlaardingen, THE NETHERLANDS; Cyient, Inc., Melbourne, FL; Desmond Fitzgerald & Associates T/A Intrepid Geophysics, Brighton, AUSTRALIA; eDrilling, Stavanger, NORWAY; Energy Research & Innovation Newfoundland & Labrador, Newfoundland & Labrador, CANADA; Enterprise Architecture Training LLC, Cuming, GA; Enthought, Inc., Austin, TX; Harmony Solutions Limited, Westlands, KENYA; Innovative Enterprise Architects, Pune, INDIA; Iron Wolf Software Corp, Huntington Beach, CA; KeyCaliber, Inc., Washington, DC; Mult Services MG Tecnologia e, Informatice Ltda, Belo Horizonte, BRAZIL; Pacific Star Communications, Inc., Portland, OR; Pariveda Solutions, Inc., Dallas, TX; Saab, Inc., East Syracuse, NY; SAS Management, Inc., Makati City, PHILIPPINES; Sustainable Evolution, Inc., Seattle, WA; Tangram Flex, Inc., Dayton, OH; Visure Solutions, Inc., San Francisco, CA; wehyve GmbH, Braunschweig, GERMANY; Woodside Energy Ltd., Perth, AUSTRALIA; and WX Geo Services Sdn. Bhd., Kuala Lumpur, MALAYSIA have withdrawn as parties to this venture.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on September 29, 2023. A notice was published in the Federal Register pursuant to Section 6(b) of the Act on December 15, 2023 (88 FR 86940).

Suzanne Morris,
Deputy Director Civil Enforcement Operations, Antitrust Division.

[FR Doc. 2024-02282 Filed 2-5-24; 8:45 am]

BILLING CODE P